Executive Order 13918 of April 28, 2020

Establishment of the Interagency Labor Committee for Monitoring and Enforcement Under Section 711 of the United States-Mexico-Canada Agreement Implementation Act

By the authority vested in me as President by the Constitution and the laws of the United States of America, including section 301 of title 3, United States Code, and section 711 of the United States-Mexico-Canada Agreement Implementation Act (Act) (Public Law 116-113), it is hereby ordered as follows:

Section 1. Establishment of the Interagency Labor Committee for Monitoring and Enforcement. The Interagency Labor Committee for Monitoring and Enforcement (Committee) is hereby established to coordinate the efforts of the United States to monitor the implementation and maintenance of the labor obligations of Canada and Mexico, to monitor the implementation and maintenance of Mexico's labor reform, and to recommend enforcement actions with respect to Canada or Mexico, as provided for in section 715 of the Act.

Sec. 2. Membership. The Committee shall be co-chaired by the United States Trade Representative and the Secretary of Labor, and shall include representatives of the Department of State, the Department of the Treasury, the Department of Agriculture, the Department of Commerce, the Department of Homeland Security, and the United States Agency for International Development. The Co-Chairs may invite representatives from other executive departments or agencies, as appropriate, to participate as members or observers. Each executive department, agency, and component represented on the Committee shall ensure that the necessary staff are available to assist their respective representatives in performing the responsibilities of the Committee. The Committee, by consensus, may designate members to assist it in carrying out the functions described in the Act.

Sec. 3. Committee Decision-Making. The Committee shall endeavor to make any decision on an action or determination under sections 712 through 719 of the Act by consensus, which shall be deemed to exist where no member objects to the proposed action or determination.

Sec. 4. Funding. Each executive department and agency participating in the Committee shall bear its own expenses incurred in connection with the Committee's functions described in sections 711 through 719 of the Act. The Department of Labor will provide funding for the hotline required under section 717 of the Act.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 28, 2020.

[FR Doc. 2020-09537

Filed 4-30-20; 11:15 am]

Billing code 3295-F0-P